DEPARTMENT OF HEALTH AND HUMAN SERVICES

Office of Inspector General

Solicitation of Information and Recommendations for Revising the Compliance Program Guidance for the Hospital Industry

AGENCY: Office of Inspector General (OIG), HHS.

ACTION: Notice.

SUMMARY: This Federal Register notice seeks the input and recommendations of interested parties as the OIG revises the compliance program guidance (CPG) for hospitals, especially those serving Medicare, Medicaid and other Federal health care program beneficiaries. The hospital industry has experienced a number of changes since the first CPG was published in early 1998. Additionally, the subsequent 4 years of compliance activity in the hospital industry has allowed the OIG to more fully address the various risk areas in hospital compliance.

With the implementation of the Hospital Outpatient Prospective Payment System (OPPS), as well as other significant changes in the hospital industry, the OIG is reevaluating the contents of the hospital CPG. As part of this process, the OIG is soliciting comments, recommendations and other suggestions from concerned parties and organizations on how best to revise the hospital CPG to address relevant compliance issues. Specifically, the OIG seeks comments addressing any changes to existing risk areas, and introduction of any new risk areas related to OPPS implementation or industry changes.

DATES: To assure consideration, comments must be delivered to the address provided below by no later than 5 p.m. on August 19, 2002.

ADDRESSES: Please mail or deliver your written comments, recommendations and suggestions to the following address: Department of Health and Human Services, Office of Inspector General, Attention: OIG-12-CPG, Room 5527 A, Cohen Building, 330 Independence Avenue, SW., Washington, DC 20201.

We do not accept comments by facsimile (FAX) transmission. In commenting, please refer to the file code OIG-12-CPG. Comments received timely will be available for public inspection as they are received, generally beginning approximately 3 weeks after publication of a document, in Room 5541 of the Office of Inspector General at 330 independence Avenue, SW., Washington, DC 20201 on Monday through Friday of each week from 8:00 A.M. to 4:30 P.M.

FOR FURTHER INFORMATION CONTACT: Paul M. Johnson, Office of Counsel to the Inspector General, (202) 619-2078; or Joel Schaer, Office of Counsel to the Inspector General, (202) 619-0089.

SUPPLEMENTARY INFORMATION: The development of compliance program guidances has become a major initiative of the OIG in its effort to engage the private health care industry in addressing and combating fraud and abuse. Over the past several years, the OIG has developed and issued compliance program guidances directed at various segments of the health care industry. These guidances are designed to provide clear direction and assistance to specific sections of the health care industry that are interested in addressing compliance with Federal health care program requirements.

The guidances have represented the culmination of the OIG's suggestions on how providers can most effectively establish internal controls and implement monitoring procedures to identify, correct and prevent potentially fraudulent conduct. The suggestions contained in the guidances are not mandatory for providers, nor do they represent an exclusive discussion of the advisable elements of a compliance program.

Through this Federal Register notice, the OIG is seeking input from interested parties as the OIG considers revising the CPG for the hospital industry. The OIG will consider all comments, recommendations and suggestions received within the time frame indicated above. The OIG would appreciate specific comments, recommendations and suggestions on (1) risk areas for the hospital industry, and (2) aspects of the seven elements contained in the previous CPGs that may need to be modified in light of recent developments in the hospital industry and changes in Federal health care program systems. Detailed justifications and empirical data supporting any suggestions would be appreciated.

We request that any comments, recommendations or suggestions be submitted in a format that address the topics outlined above in a concise manner, rather than in the form of a comprehensive draft guidance that mirrors previous CPGs.

Dated: May 29, 2002.
Janet Rehnquist,
Inspector General.

[FR Doc. 02-15349 Filed 6-17-02; 8:45 am]

BILLING CODE 4152-01-M